FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 3, 2011.

A. Federal Reserve Bank of St. Louis (Glenda Wilson, Community Affairs Officer) P.O. Box 442, St. Louis, Missouri 63166-2034:

1. Cooper Investments, Inc.; Teresa A. Grindstaff and Greg E. Allen, Trustees of the William H. Cooper General Trust; Teresa A. Grindstaff and Greg E. Allen, Trustees of the William H. Cooper Marital Trust; Greg E. Allen Trustee of the Greg E. Allen Trust U/I William H. Cooper; Greg E. Allen and Jane Allen, Trustees of the Greg Allen and Jane Allen Trust; Teresa A. Grindstaff, and Greg E. Allen, all of Farmington, Missouri; to acquire control of First State Bancshares, Inc., and thereby indirectly acquire control of First State Community Bank, both in Farmington, Missouri.

Board of Governors of the Federal Reserve System, July 14, 2011.
Robert deV. Frierson,
Deputy Secretary of the Board.

[FR Doc. 2011-18081 Filed 7-18-11; 8:45 am]

BILLING CODE 6210-01-P